DEPARTMENT OF TRANSPORTATION

National Highway Traffic Safety Administration

Petition for Exemption From the Vehicle Theft Prevention Standard; Maserati North America Inc.

AGENCY: National Highway Traffic Safety Administration (NHTSA), Department of Transportation (DOT).

ACTION: Grant of petition for exemption.

SUMMARY: This document grants in full Maserati North America Inc.'s, (Maserati) petition for an exemption of the Quattroporte vehicle line in accordance with 49 CFR Part 543, Exemption from the Theft Prevention Standard. This petition is granted because the agency has determined that the antitheft device to be placed on the line as standard equipment is likely to be as effective in reducing and deterring motor vehicle theft as compliance with the parts-marking requirements of the Theft Prevention Standard (49 CFR Part 541).

DATES: The exemption granted by this notice is effective beginning with the 2014 model year (MY).

FOR FURTHER INFORMATION CONTACT: Ms. Carlita Ballard, Office of International Policy, Fuel Economy and Consumer Programs, NHTSA, W43-439, 1200 New Jersey Avenue SE., Washington, DC 20590. Ms. Ballard's phone number is (202) 366-5222. Her fax number is (202) 493-2990.

SUPPLEMENTARY INFORMATION: In a petition dated March 11, 2013, Maserati requested an exemption from the parts-marking requirements of the Theft Prevention Standard (49 CFR Part 541) for the MY 2014 Quattroporte vehicle line. The petition requested an exemption from parts-marking pursuant to 49 CFR Part 543, Exemption from Vehicle Theft Prevention Standard, based on the installation of an antitheft device as standard equipment for an entire vehicle line.

Under § 543.5(a), a manufacturer may petition NHTSA to grant an exemption for one vehicle line per model year. In its petition, Maserati provided a detailed description and diagram of the identity, design, and location of the components of the antitheft device for the Quattroporte vehicle line. Maserati stated that all of its vehicles will be equipped with a passive, Sentry Key Immobilizer System (SKIS), a Vehicle Alarm System (VTA) and a Keyless Ignition System as standard equipment beginning with the 2014 model year. Key components of its SKIS antitheft device will include an Engine Power Control Module (ECM), Fuel Delivery, Starter Motor Circuit, and a Shaft Lock Module. Maserati's keyless ignition system will consist of a Key Fob with Remote Keyless Entry (RKE) Transmitter, RFHub and Keyless Ignition Node (KIN). Maserati will provide its VTA system as standard equipment. The VTA will provide perimeter protection by monitoring the vehicle doors, ignition switch and deck lid. The VTA alarm system includes an ultrasonic sensor to defeat motion within the vehicle and has the ability to be armed without the intrusion sensor. Maserati stated that if unauthorized tampering with any of these protected areas is detected, the system will respond by pulsing the vehicle's horn/siren as an audible deterrent and flashing certain exterior lamps as a visual deterrent. Maserati's submission is considered a complete petition as required by 49 CFR 543.7, in that it meets the general requirements contained in § 543.5 and the specific content requirements of § 543.6.

Maserati stated that the immobilizer device is automatically armed when the ignition is changed from the run position to the off position. Once activated, only the use of a valid key can disable immobilization and allow the vehicle to run. Specifically, Maserati stated that the device is disarmed by performing an unlock actuation via the RKE transmitter or by starting the vehicle with a valid RFHub key. Maserati stated that to start the vehicle, the driver must press and hold the brake pedal while pressing the START/STOP button. The system takes over and engages the starter causing the starter motor to run and disengage automatically when the engine is running. Maserati stated that the RFHub contains and controls the SKIS preventing unauthorized use of the vehicle by preventing the engine from running more than 2 seconds unless a valid FOBIK key is used to start the engine. Maserati also stated that the vehicle's key fob with RKE transmitter, RFHub and the KIN contains over 50,000 possible electronic key combinations and allows the driver to operate the ignition switch with the push of a button as long as the RKE transmitter is in the passenger compartment.

In addressing the specific content requirements of 543.6, Maserati provided information on the reliability and durability of its proposed device. To ensure reliability and durability of the device, Maserati conducted tests based on its own specified standards. Maserati provided a detailed list of the tests conducted (i.e., temperature and humidity cycling, high and low temperature cycling, mechanical shock, random vibration, thermal stress/shock tests, material resistance tests, dry heat, dust and fluid ingress tests). Maserati also stated that the VTA, including the immobilizer device and its related components, must meet design and durability requirements for full vehicle useful life (10 years/120k miles). Maserati stated that it believes that its device is reliable and durable because it complied with specified requirements for each test.

As an additional method of reliability and security, Maserati stated that a shaft lock module is also part of the SKIS. This unit is designed to work in conjunction with the RFHub module to control a locking bolt that engages any slot in the steering shaft to prevent shaft rotation whenever there is not a valid key present. The monitoring provisions for the shaft lock module are designed to resist unauthorized tampering. The module cannot be removed from the steering column while the lock bolt is in the locked position. The shaft lock module cannot be adjusted or repaired and if faulty or damaged, it must be replaced as an assembly.

Maserati stated that based on MY 2010 theft data published by NHTSA, its vehicles which have had antitheft and immobilizer systems installed have experienced extremely low to zero theft rates. Maserati also stated that because it had previously been a small vehicle manufacturer that produced and sold a low volume of vehicle units, its vehicles had been exempted from the parts-marking requirements. However, Maserati informed the agency that its immobilizer antitheft device has been equipped on its vehicles as standard equipment since MY 2007 and believes that its advanced technology antitheft devices are and will continue to be more effective in deterring vehicle theft than the parts-marking requirements. Theft rate data reported in Federal Register notices published by the agency show that the theft rate for the Quattroporte vehicle line, using an average of three MYs' data (2008-2010), is 0.6120, which is significantly lower than the median theft established by the agency. Maserati believes these low theft rates demonstrate the effectiveness of the immobilizer device.

Based on the supporting evidence submitted by Maserati on its device, the agency believes that the antitheft device for the Quattroporte vehicle line is likely to be as effective in reducing and deterring motor vehicle theft as compliance with the parts-marking requirements of the Theft Prevention Standard (49 CFR 541). The agency concludes that the device will provide the five types of performance listed in § 543.6(a)(3): promoting activation; attracting attention to the efforts of an unauthorized person to enter or move a vehicle by means other than a key; preventing defeat or circumvention of the device by unauthorized persons; preventing operation of the vehicle by unauthorized entrants; and ensuring the reliability and durability of the device.

Pursuant to 49 U.S.C. 33106 and 49 CFR 543.7(b), the agency grants a petition for exemption from the parts-marking requirements of Part 541 either in whole or in part, if it determines that, based upon substantial evidence, the standard equipment antitheft device is likely to be as effective in reducing and deterring motor vehicle theft as compliance with the parts-marking requirements of Part 541. The agency finds that Maserati has provided adequate reasons for its belief that the antitheft device for the Maserati Quattroporte vehicle line is likely to be as effective in reducing and deterring motor vehicle theft as compliance with the parts-marking requirements of the Theft Prevention Standard (49 CFR Part 541). This conclusion is based on the information Maserati provided about its device.

For the foregoing reasons, the agency hereby grants in full Maserati's petition for exemption for the Maserati Quattroporte vehicle line from the parts-marking requirements of 49 CFR Part 541. The agency notes that 49 CFR Part 541, Appendix A-1, identifies those lines that are exempted from the Theft Prevention Standard for a given model year. 49 CFR Part 543.7(f) contains publication requirements incident to the disposition of all Part 543 petitions. Advanced listing, including the release of future product nameplates, the beginning model year for which the petition is granted and a general description of the antitheft device is necessary in order to notify law enforcement agencies of new vehicle lines exempted from the parts-marking requirements of the Theft Prevention Standard.

If Maserati decides not to use the exemption for this line, it must formally notify the agency. If such a decision is made, the line must be fully marked according to the requirements under 49 CFR Parts 541.5 and 541.6 (marking of major component parts and replacement parts).

NHTSA notes that if Maserati wishes in the future to modify the device on which this exemption is based, the company may have to submit a petition to modify the exemption. Part 543.7(d) states that a Part 543 exemption applies only to vehicles that belong to a line exempted under this part and equipped with the antitheft device on which the line's exemption is based. Further, Part 543.9(c)(2) provides for the submission of petitions “to modify an exemption to permit the use of an antitheft device similar to but differing from the one specified in that exemption.”

The agency wishes to minimize the administrative burden that Part 543.9(c)(2) could place on exempted vehicle manufacturers and itself. The agency did not intend in drafting Part 543 to require the submission of a modification petition for every change to the components or design of an antitheft device. The significance of many such changes could be de minimis. Therefore, NHTSA suggests that if the manufacturer contemplates making any changes, the effects of which might be characterized as de minimis, it should consult the agency before preparing and submitting a petition to modify.

Authority: 49 U.S.C. 33106; delegation of authority at 49 CFR 1.50.

Issued on: April 18, 2013.
Christopher J. Bonanti,
Associate Administrator for Rulemaking.

[FR Doc. 2013-09685 Filed 4-23-13; 8:45 am]

BILLING CODE 4910-59-P